FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 22, 2011.

A. Federal Reserve Bank of Kansas City (Dennis Denney, Assistant Vice President), 1 Memorial Drive, Kansas City, Missouri 64198-0001:

1. Paul R. Boeding and Marilyn E. Boeding, both of Seneca, Kansas; to acquire control of Baileyville Bancshares, Inc., and thereby indirectly acquire control of Baileyville State Bank, both in Seneca, Kansas.

2. Todd L. Sutherland, Lawrence, Kansas, individually and as trustee of the Todd L. Sutherland 2005 Revocable Trust; to acquire control of Lawrence Financial Corporation, and thereby indirectly acquire control of The University National Bank of Lawrence, both in Lawrence, Kansas.

Board of Governors of the Federal Reserve System, April 4, 2011.
Robert deV. Frierson,
Deputy Secretary of the Board.

[FR Doc. 2011-8289 Filed 4-6-11; 8:45 am]

BILLING CODE 6210-01-P